DEPARTMENT OF TRANSPORTATION

Federal Aviation Administration

RTCA Special Committee 135/EUROCAE Working Group 14: Environmental Conditions and Test Procedures for Airborne Equipment

AGENCY: Federal Aviation Administration (FAA), DOT.

ACTION: Notice of RTCA Special Committee 135/EUROCAE Working Group 14 meeting.

SUMMARY: The FAA is issuing this notice to advise the public of a meeting of RTCA Special Committee 135/EUROCAE Working Group 14: Environmental Conditions and Test Procedures for Airborne Equipment.

DATES: The meeting will be held August 25-26, 2004 starting at 9 a.m.

ADDRESSES: The meeting will be held RTCA, 1828 L Street, NW., Suite 805, Washington, DC 20036-5133.

FOR FURTHER INFORMATION CONTACT: (1) RTCA Secretariat, 1828 L Street NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 135 meeting. The agenda will include:

• August 25-26:

• Opening Plenary Session (Welcome and Introductory Remarks, Approve Minutes of Previous Meeting).

• Review Results of EUROCAE-14 Meeting.

• Review/Approve Proposed Final Draft DO-160E.

• RTCA Paper No. 111-04/SC135-645.

• Review Schedule to Release DO-160E, Environmental Conditions and Test Procedures for Airborne Equipment.

• Identify Areas for Continuing Work on DO-160E.

• Closing Plenary Session (New/Unfinished Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 27, 2004.
Robert Zoldos,
FAA System Engineer, RTCA Advisory Committee.

[FR Doc. 04-18707 Filed 8-13-04; 8:45 am]

BILLING CODE 4910-13-M